DEPARTMENT OF JUSTICE

Drug Enforcement Administration

Importer of Controlled Substances; Notice of Registration

By Notice dated October 8, 1999, and published in the Federal Register on October 18, 1999, (64 FR 56226), Glaxo Wellcome, Inc., Attn: Jeffrey A. Weiss, 1011 North Arendell Avenue, PO Box 1217, Zebulon, North Carolina 27597-2309, made application to the Drug Enforcement Administration to be registered as an importer of Remifentanil (9739), a basic class of controlled substance listed in Schedule II.

The remifentanil is being imported for the production of Ultiva dosage forms and for research and new product development.

No comments or objections have been received. DEA has considered the factors in Title 21, United States Code, Section 823(a) and 952(a), and determined that the registration of Glaxo Wellcome, Inc. to import remifantanil is consistent with the public interest and with United States obligations under international treaties, conventions, or protocols in effect on May 1, 1971, at this time. DEA has investigated the firm on a regular basis to ensure that the company's continued registration is consistent with the public interest. These investigations have included inspection and testing of the company's physical security systems, audits of the company's records, verification of the company's compliance with state and local laws, and a review of the company's background and history. Therefore, pursuant to section 1008(a) of the Controlled Substances Import and Export Act and in accordance with Title 21, Code of Federal Regulations, § 1301.34, the above firm is granted registration as an importer of the basic class of controlled substance listed above.

Dated: January 4, 2000.
John H. King,
Deputy Assistant Administrator, Office of Diversion Control, Drug Enforcement Administration.

[FR Doc. 00-2874 Filed 2-8-00; 8:45 am]

BILLING CODE 4410-09-M